ENVIRONMENTAL PROTECTION AGENCY

[FRL-9765-1]

National Environmental Justice Advisory Council; Notification of Public Teleconference Meeting and Public Comment

AGENCY: Environmental Protection Agency (EPA).

ACTION: Notice of public teleconference meeting and public comment.

SUMMARY: Pursuant to the Federal Advisory Committee Act (FACA), Public Law 92-463, the U.S. Environmental Protection Agency (EPA) hereby provides notice that the National Environmental Justice Advisory Council (NEJAC) will host a public teleconference meeting on Wednesday, January 23, 2013, from 2:00 p.m. to 4:15 p.m. Eastern Time. The primary topic of discussion will be promoting community resiliency in EJ industrial waterfront areas.

There will be a public comment period from 3:15 p.m. to 3:45 p.m. Eastern Time. Members of the public are encouraged to provide comments relevant to the topic of the meeting.

For additional information about registering to attend the meeting or to provide public comment, please see the “REGISTRATION” and SUPPLEMENTARY INFORMATION sections below. Due to a limited number of telephone lines, attendance will be on a first-come, first served basis. Pre-registration is required. Registration for the teleconference meeting closes at 12:00 noon Eastern Time on Friday, January 11, 2013. The deadline to sign up to speak during the public comment period, or to submit written public comments, is also Friday, January 11, 2013.

DATES: The NEJAC teleconference meeting on Wednesday, January 23, 2013, will begin promptly at 2:00 p.m. Eastern Time.

Registration: Registrations will primarily be processed via the NEJAC meeting Web page, www.epa.gov/environmentaljustice/nejac/meetings.html. Registrations can also be submitted by email to NEJACJan2013Mtg@AlwaysPursuingExcellence.com with “Register for the NEJAC January 2013 Teleconference” in the subject line; or by phone or fax to 877-773-0779. When registering, please provide your name, organization, city and state, email address, and telephone number for follow up. Please also state whether you would like to be put on the list to provide public comment, and whether you are submitting written comments before the Friday, January 11, 2013, deadline. Non-English speaking attendees wishing to arrange for a foreign language interpreter may also make appropriate arrangements using the email address or telephone/fax number.

FOR FURTHER INFORMATION CONTACT: Questions or correspondence concerning the teleconference meeting should be directed to Mr. Aaron Bell, U.S. Environmental Protection Agency, by mail at 1200 Pennsylvania Avenue NW. (MC2201A), Washington, DC 20460; by telephone at 202-564-1044; via email at Bell.Aaron@epa.gov; or by fax at 202-564-1624. Additional information about the NEJAC and upcoming meetings is available at: www.epa.gov/environmentaljustice/nejac.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

A. Public Comment: Members of the public who wish to attend the Wednesday, January 23, 2013, public teleconference or provide public comment must pre-register by 12:00 noon Eastern Time on Friday, January 11, 2013. Individuals or groups making remarks during the public comment period will be limited to five minutes. To accommodate the large number of people who want to address the NEJAC, only one representative of a particular community, organization, or group will be allowed to speak. Written comments can also be submitted for the record. The suggested format for individuals providing public comments is as follows: name of speaker; name of organization/community; city and state; and email address; brief description of the concern, and what you want the NEJAC to advise EPA to do. Written comments received by 12:00 noon Eastern Time on Friday, January 11, 2013, will be included in the materials distributed to the NEJAC prior to the teleconference. Written comments received after that time will be provided to the NEJAC as time allows. All written comments should be sent to EPA's support contractor, APEX Direct, Inc., via email or fax as listed in the FOR FURTHER INFORMATION CONTACT section above.

B. Information about Services for Individuals with Disabilities: For information about access or services for individuals with disabilities, please contact Ms. Estela Rosas, EPA Contractor, APEX Direct, Inc., at 877-773-0779 or via email at NEJACJan2013Mtg@AlwaysPursuingExcellence.com. To request special accommodations for a disability, please contact Ms. Rosas at least seven working days prior to the meeting, to give EPA sufficient time to process your request. All requests should be sent to the address, email, or phone/fax number listed in the “REGISTRATION” section above.

Dated: December 20, 2012.
Victoria J. Robinson,
Designated Federal Officer, Office of Environmental Justice.

[FR Doc. 2012-31313 Filed 12-27-12; 8:45 am]

BILLING CODE 6560-50-P